DEPARTMENT OF THE TREASURY

Agency Information Collection Activities; Submission for OMB Review; Community Development Financial Institutions Funds Certificate of Material Events Form

AGENCY: Departmental Offices, U.S. Department of the Treasury.

ACTION: Notice.

SUMMARY: The Department of the Treasury will submit the following information collection request to the Office of Management and Budget (OMB) for review and clearance in accordance with the Paperwork Reduction Act of 1995, on or after the date of publication of this notice. The public is invited to submit comments on this request.

DATES: Comments must be received on or before May 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Title: Certification of Material Events Form.

OMB Control Number: 1559-0037.

Type of Review: Revision of a currently approved collection.

Description: This information collection captures information related to specified “material events” that recipients and/or allocatees are required to report per applicable Assistance, Award, Allocation, or Bond Loan Agreement for New Markets Tax Credit Program, CDFI Bond Guarantee Program, Bank Enterprise Award Program, Small Dollar Loan Program, Capital Magnet Fund Program, CDFI Program/Native American CDFI Assistance Program, including Technical Assistance, Financial Assistance, Healthy Food Financing Initiative Financial Assistance, Disability Funds Financial Assistance, Persistent Poverty Counties Financial Assistance, and/or the CDFI Rapid Response Program. The revised form requires recipients and/or allocatees to indicate their material event, explain the event, and describe their organization's response.

Forms: Certificate of Material Events Form.

Affected Public: Businesses or other for-profits; Not-for-profit institutions; State, Local, and Tribal entities.

Estimated Number of Respondents: 200.

Frequency of Response: On Occasion.

Estimated Total Number of Annual Responses: 200.

Estimated Time per Response: 15 minutes.

Estimated Total Annual Burden Hours: 50.

Authority: 44 U.S.C. 3501 et seq.

Molly Stasko,
Treasury PRA Clearance Officer.

[FR Doc. 2022-08690 Filed 4-22-22; 8:45 am]

BILLING CODE 4810-70-P